NUCLEAR REGULATORY COMMISSION

[NRC-2016-0053]

Program-Specific Guidance About Possession Licenses for Manufacturing and Distribution

AGENCY: Nuclear Regulatory Commission.

ACTION: Draft NUREG; extension of comment period.

SUMMARY: On July 13, 2016, the U.S. Nuclear Regulatory Commission (NRC) solicited comments on draft NUREG-1556, Volume 12, Revision 1, “Consolidated Guidance About Materials Licenses: Program-Specific Guidance About Possession Licenses for Manufacturing and Distribution.” The public comment period was originally scheduled to close on August 12, 2016. The NRC has decided to extend the public comment period to allow more time for members of the public to develop and submit their comments.

DATES: The due date of comments requested in the document published on July 13, 2016 (81 FR 45308) is extended. Comments should be filed no later than August 26, 2016. Comments received after this date will be considered if it is practical to do so, but the NRC is able to ensure consideration only for comments received on or before this date.

ADDRESSES: You may submit comments by any of the following methods (unless this document describes a different method for submitting comments on a specific subject):

• Federal Rulemaking Web site: Go to http://www.regulations.gov and search for Docket ID NRC-2016-0053. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on accessing information and submitting comments, see “Obtaining Information and Submitting Comments” in the SUPPLEMENTARY INFORMATION section of this document.

FOR FURTHER INFORMATION CONTACT: Anthony McMurtray, Office of Nuclear Material Safety and Safeguards; U.S. Nuclear Regulatory Commission, Washington, DC 20555-0001; telephone: 301-415-2746; email: Anthony.McMurtray@nrc.gov.

SUPPLEMENTARY INFORMATION:

I. Obtaining Information and Submitting Comments

A. Obtaining Information

Please refer to Docket ID NRC-2016-0053 when contacting the NRC about the availability of information regarding this document. You may obtain publicly-available information related to this action by the following methods:

• Federal Rulemaking Web site: Go to http://www.regulations.gov and search for Docket ID NRC-2016-0053.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft NUREG-1556, Volume 12, Revision 1, is available in ADAMS under Accession No. ML16182A163.

• NRC's PDR: You may examine and purchase copies of public documents at the NRC's PDR, Room O1-F21, One White Flint North, 11555 Rockville Pike, Rockville, Maryland 20852.

The draft NUREG-1556, Volume 12, Revision 1, is also available on the NRC's public Web site on: (1) The “Consolidated Guidance About Materials Licenses (NUREG-1556)” page at http://www.nrc.gov/reading-rm/doc-collections/nuregs/staff/sr1556/; and (2) the “Draft NUREG-Series Publications for Comment” page at http://www.nrc.gov/public-involve/doc-comment.html#nuregs.

B. Submitting Comments

Please include Docket ID NRC-2016-0053 in the subject line of your comment submission, in order to ensure that the NRC is able to make your comment submission available to the public in this docket.

The NRC cautions you not to include identifying or contact information that you do not want publicly disclosed in your comment submission. The NRC will post all comment submissions at http://www.regulations.gov as well as enter the comment submissions into ADAMS, and the NRC does not routinely edit comment submissions to remove identifying or contact information.

If you are requesting or aggregating comments from other persons for submission to the NRC, you should inform these persons that they should not to include identifying or contact information that they do not want to be publicly disclosed in their comment submission.

II. Discussion

On July 13, 2016, the NRC solicited comments on draft NUREG-1556, Volume 12, Revision 1, “Consolidated Guidance About Materials Licenses: Program-Specific Guidance About Licenses for Manufacturing and Distribution.”

The purpose of the document published on July 13, 2016 (81 FR 45308) was to provide the public with an opportunity to review and provide comments on draft NUREG-1556, Volume 12, Revision 1. This NUREG provides guidance to current holders of possession licenses for manufacturing and distribution and to an applicant in preparing an application for such a license. The NUREG also provides the NRC with criteria for evaluating a license application. The public comment period was originally scheduled to close on August 12, 2016. The NRC has decided to extend the public comment period on this document until August 26, 2016, to allow more time for members of the public to submit their comments.

Dated at Rockville, Maryland, this 19th day of July 2016.
For the U.S. Nuclear Regulatory Commission.
Daniel S. Collins,
Director, Division of Material Safety, State, Tribal, and Rulemaking, Office of Nuclear Material Safety and Safeguards.

[FR Doc. 2016-17682 Filed 7-25-16; 8:45 am]

BILLING CODE 7590-01-P